DEPARTMENT OF ENERGY

Federal Energy Regulatory Commission

[Project No. 14634-008]

New England Hydropower Company, LLC; Notice of Application Tendered for Filing With the Commission and Soliciting Additional Study Requests and Establishing Procedural Schedule for Licensing

Take notice that the following hydroelectric application has been filed with the Commission and is available for public inspection.

a. Type of Application: Original Minor License.

b. Project No.: 14634-008.

c. Date Filed: January 21, 2025.

d. Applicant: New England Hydropower Company, LLC (NEHC).

e. Name of Project: Ashton Dam Hydroelectric Project (project).

f. Location: On the Blackstone River in Providence County, Rhode Island.

g. Filed Pursuant to: Federal Power Act 16 U.S.C. 791(a)-825(r).

h. Applicant Contact: Mr. Michael Kerr, New England Hydropower Company, LLC, 100 Cummings Center, Suite 451C, Beverly, MA 01915; Phone at (978) 360-2547, or email at michael@nehydropower.com; or Carol Wasserman, New England Hydropower Company, LLC, 100 Cummings Center, Suite 451C, Beverly, MA 01915; Phone at (339) 293-3157, or email carol@nehydropwer.com.

i. FERC Contact: John Baummer at (202) 502-6837, or john.baummer@ferc.gov.

j. Cooperating Agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 22, 2025.

The Commission strongly encourages electronic filing. Please file additional study requests and requests for cooperating agency status using the Commission's eFiling system at https://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Ashton Dam Hydroelectric Project (P-14634-008).

m. The application is not ready for environmental analysis at this time.

n. The proposed Ashton Dam Hydroelectric Project would consist of: (1) an existing stone masonry gravity dam that includes: (a) a western abutment section; (b) a 203-foot-long western spillway section with a crest elevation of 73.6 feet North American Vertical Datum of 1988 (NAVD 88); (c) an 18-foot-long stone masonry pier that includes two 4-foot-wide, 8-foot-high existing openings that would be modified to close the openings; (d) an existing 54-foot-long eastern spillway section that would be replaced with a new 54-foot-long concrete section that includes: (i) two new 19.8-foot-wide, horizontal steel trashracks sloped at 8 degrees to inflow with 0.5-inch clear bar spacing; (ii) two new 19.7-foot-wide, 60.8-foot-long concrete penstocks, and (iii) four new hinged, adjustable Obermeyer metal crest gates installed on top of the new concrete structure with a crest elevation of 73.6 feet NAVD 88; and (e) an eastern abutment section; (2) an existing impoundment with a surface area of 35 acres at an elevation of 73.6 feet NAVD 88; (3) four new submersible StreamDiver Kaplan turbine-generator units (three 224-kilowatt [kW] and one 121-kW generators) located in the openings of the new concrete structure, with a total installed capacity of 793 kW; (4) a new 15.4-foot-long, 8.6-foot-high draft tube and a new 16.9-foot-long, 6.7-foot-high draft tube; (5) a new 60-foot-long, 41-foot-wide concrete tailrace and an approximately 30- to 45-foot-long, 44.3-foot-wide concrete apron; (6) a new 35-foot-long, 16-foot-wide control building located on the eastern shoreline of the Blackstone River; (7) a new 1,000 kilo-volt-amperes step-up transformer located on a new 6-foot-long, 5.3-foot-wide concrete pad; (8) a new 1,410-foot-long transmission line consisting of an 820-foot-long underground segment and a 590-foot-long overhead segment connecting the project to the distribution system owned by the Rhode Island Energy; (9) a new access road and parking area; and (10) appurtenant facilities.

In addition to the new facilities listed above, NEHC proposes to: (1) operate the project in a run-of-river mode with an estimated annual energy production of approximately 3,100 megawatt-hours; (2) release a continuous minimum flow of 100 cubic feet per second or inflow whichever is less, over the western spillway; (3) install a downstream fish passage facility between the crest gates on top of the new concrete structure; (4) install an upstream eel passage facility at the project dam; (5) develop an erosion control plan; (6) implement Best Management Practices to control erosion and sedimentation during construction; (7) develop a contaminated sediment management and disposal plan; (8) monitor water quality post construction; (9) restore and improve an existing canoe portage upstream and downstream of the dam; (10) develop an invasive species management plan; (11) develop an historic properties management plan; (12) install interpretive historic signage for educational purposes at the project; and (13) develop a project operation and maintenance plan.

o. Copies of the application may be viewed on the Commission's website at https://www.ferc.gov using the “eLibrary” link. Enter the docket number excluding the last three digits in the docket number field to access the document (P-14634). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595 or OPP@ferc.gov.

p. Procedural Schedule: The application will be processed according to the following preliminary schedule. Revisions to the schedule will be made as appropriate.

Milestone—Target Date

Issue Deficiency Letter (if necessary)—March 2025

Request Additional Information—March 2025

Issue Acceptance Letter—July 2025

Issue Scoping Document 1 for comments—July 2025

Request Additional Information (if necessary)—August 2025

Issue Scoping Document 2—October 2025

Issue Notice of Ready for Environmental Analysis—October 2025

Dated: February 4, 2025.
Debbie Anne A. Reese,
Secretary.

[FR Doc. 2025-02429 Filed 2-10-25; 8:45 am]

BILLING CODE 6717-01-P